DEPARTMENT OF ENERGY

Federal Energy Regulatory Commission

[Docket Nos. ER02-2233-001, EC03-14-000, ER03-242-000, ER03-257-000, ER03-262-000, ER03-263-000, RT01-2-000, RT01-98-000, RT01-87-000 and RT02-2-000]

Ameren Services Company, FirstEnergy Corporation, Northern Indiana Public Service Company, National Grid USA, Midwest Independent Transmission System Operator, Inc., American Electric Power Service Corporation Virginia Electric and Power Company, American Electric Power Service Corporation, Commonwealth Edison Company and Commonwealth Edison Company of Indiana, Inc., The Dayton Power and Light Company, Virginia Electric and Power Company, and PJM Interconnection, L.L.C., Commonwealth Edison Company and Commonwealth Edison Company of Indiana, Inc., PJM Interconnection, L.L.C., PJM Interconnection, L.L.C., Midwest Independent System Operator, Inc., and State-Federal Regional RTO Panels; Notice of State-Federal Regional Panel Discussion

January 10, 2003.

1. At the request of the Indiana Utility Regulatory Commission (Indiana Commission), the Federal Energy Regulatory Commission will hold a discussion with the Commissioners and staff of the Indiana Commission to discuss dockets related to RTO formation that are currently pending before both the Commission and the Indiana Commission. These cases involve the transfer to PJM Interconnection, L.L.C. of functional control of transmission assets that American Electric Power Service Corporation requested on behalf of Appalachian Power Company, Columbus Southern Power Company, Indiana Michigan Power Company, Kentucky Power Company, Kingsport Power Company, Ohio Power Company and Wheeling Power Company (collectively AEP); and Northern Indiana Public Service Company's request for transfer of functional control of its transmission facilities to GridAmerica and the Midwest ISO. The conference is established pursuant to the Order Announcing the Establishment of State-Federal Regional Panels to Address RTO Issues, Modifying the Application of Rule 2201 in the Captioned Dockets, and Clarifying Order No. 607, 97 FERC 61,182 (2001), reh'g denied 98 FERC 61,309 (2002). The conferences will not involve any discussion of the Indiana Commission's open dockets.

2. The Indiana Commission has indicated that the Commissioners and staff of the Indiana Utility Regulatory Commission, the Public Service Commission of Kentucky, the Michigan Public Service Commission, the Public Utilities Commission of Ohio, the Tennessee Regulatory Authority, the Virginia State Corporation Commission, and the Public Service Commission of West Virginia, who represent the states served by AEP, may wish to participate in this discussion; other affected state commissions also may have an interest in this matter and may wish to participate. Attendance at the meeting is limited to the Commission, state commissioners, and their respective staffs.

3. The discussion will take place at the offices of the Federal Energy Regulatory Commission, 888 First Street, NE., Washington, DC, at 10 a.m. on Tuesday, January 14, 2003. A transcript of the discussion will be placed in the above-captioned dockets.

Magalie R. Salas,
Secretary.

[FR Doc. 03-1028 Filed 1-15-03; 8:45 am]

BILLING CODE 6717-01-P